ENVIRONMENTAL PROTECTION AGENCY

40 CFR Part 52

[EPA-R09-OAR-2009-0371, FRL-8929-7]

Revisions to the California State Implementation Plan, Northern Sierra Air Quality Management District and San Joaquin Valley Unified Air Pollution Control District

AGENCY: Environmental Protection Agency (EPA).

ACTION: Proposed rule.

SUMMARY: EPA is proposing to approve revisions to the Northern Sierra Air Quality Management District (NSAQMD) and San Joaquin Valley Unified Air Pollution Control District (SJVUAPCD) portions of the California State Implementation Plan (SIP). Under authority of the Clean Air Act as amended in 1990 (CAA or the Act), we are proposing to approve local rules that address volatile organic compound emissions from asphalt paving, gasoline bulk storage tanks, and gasoline dispensing stations.

DATES: Any comments must arrive by August 12, 2009.

ADDRESSES: Submit comments, identified by docket number EPA-R09-OAR-2009-0371, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Mae Wang, EPA Region IX, (415) 947-4124, wang.mae@epa.gov.

SUPPLEMENTARY INFORMATION: Throughout this document, “we,” “us” and “our” refer to EPA.

Table of Contents

I. The State's Submittal

A. What Rules Did the State Submit?

B. Are There Other Versions of These Rules?

C. What Is the Purpose of the Submitted Rules and Rule Amendments?

II. EPA's Evaluation and Action

A. How Is EPA Evaluating the Rules?

B. Do the Rules Meet the Evaluation Criteria?

C. Public Comment and Final Action

III. Statutory and Executive Order Reviews

I. The State's Submittal

A. What Rules Did the State Submit?

Table 1 lists the rules we are proposing to approve with the dates that they were adopted, amended, or revised by the local air agencies and submitted by the California Air Resources Board (CARB).

Table 1—Submitted Rules
District | Rule No. | Rule title | Adopted or amended | Submitted
NSAQMD | 227 | Cutback and Emulsified Asphalt Paving Materials | 11/27/06 | 03/07/08
SJVUAPCD | 4621 | Gasoline Transfer into Stationary Storage Containers, Delivery Vessels, and Bulk Plants | 12/20/07 | 03/07/08
SJVUAPCD | 4622 | Gasoline Transfer into Motor Vehicle Fuel Tanks | 12/20/07 | 03/07/08
SJVUAPCD | 4651 | Soil Decontamination Operations | 09/20/07 | 03/07/08

On April 17, 2008, CARB's submittal of March 7, 2008, was found to meet the completeness criteria in 40 CFR part 51, appendix V, which must be met before formal EPA review.

B. Are There Other Versions of These Rules?

There is no previous version of NSAQMD Rule 227 in the SIP. We approved previous versions of SJVUAPCD Rules 4621 and 4622 into the SIP on April 19, 2000 (65 FR 20912) and March 24, 2003 (68 FR 14156), respectively. We approved a previous version of SJVUAPCD Rule 4651 into the SIP on July 24, 1996 (61 FR 38571).

C. What Is the Purpose of the Submitted Rules and Rule Amendments?

Volatile organic compounds (VOCs) help produce ground-level ozone and smog, which harm human health and the environment. Section 110(a) of the CAA requires States to submit regulations that control VOC emissions. NSAQMD Rule 227 provides standards to control VOC emissions during the use or manufacture of cutback asphalt and emulsified asphalt paving materials. SJVUAPCD Rule 4621 limits VOC emissions from gasoline storage containers and delivery vessels, and gasoline transfer operations at bulk plants. SJVUAPCD Rule 4622 limits VOC emissions from the transfer of gasoline into motor vehicle fuel tanks. SJVUAPCD Rule 4651 regulates VOC emissions from excavation, transportation, handling, decontamination, and disposal of soil that has been contaminated with a VOC-containing liquid. EPA's technical support documents (TSDs) have more information about these rules.

II. EPA's Evaluation and Action

A. How Is EPA Evaluating the Rules?

Generally, SIP rules must be enforceable (see section 110(a) of the CAA) and must not relax existing requirements (see sections 110(l) and 193 of the CAA).

CAA subpart 1 VOC rules must require Reasonably Available Control Measures (RACM), including Reasonably Available Control Technology (RACT), for each major VOC source in ozone nonattainment areas (see section 172(c)(1) of the CAA). The NSAQMD regulates a subpart 1 8-hr ozone nonattainment area in Western Nevada County (see 40 CFR part 81) and must fulfill the requirements of RACM/RACT in that area.

CAA subpart 2 VOC rules must require RACT for each significant source category covered by a Control Technique Guideline (CTG) document and for each major source in ozone nonattainment areas (see sections 182(a)(2) and (b)(2) of the CAA). The SJVUAPCD regulates a subpart 2 8-hr ozone nonattainment area which was classified under the 1-hr standard as an extreme nonattainment area (see 40 CFR part 81). Additionally, gasoline storage, transfer, and dispensing rules must fulfill the special requirements for gasoline vapor recovery in ozone nonattainment areas (see section 182(b)(3)(A) of the CAA) and special requirements for vehicle fleets (see section 202(a)(6) of the CAA).

Guidance and policy documents that we use to help evaluate specific enforceability and RACT requirements consistently include the following:

1. Portions of the proposed post-1987 ozone and carbon monoxide policy that concern RACT, 52 FR 45044 (November 24, 1987).

2. Issues Relating to VOC Regulation Cutpoints, Deficiencies, and Deviations, EPA (May 25, 1988) [The Bluebook].

3. Guidance Document for Correcting Common VOC & Other Rule Deficiencies, EPA Region 9 (August 21, 2001) [The Little Bluebook].

4. Control of VOC from the Use of Cutback Asphalt, EPA-450/2-77-037 (December 1977).

5. SJVUAPCD 2004 Extreme Ozone Attainment Demonstration Plan.

6. SJVUAPCD 2007 Ozone Plan, http://www.arb.ca.gov/planning/sip/2007sip/sjv8hr/sjvozone.htm.

7. SJVUAPCD Final Staff Report, Proposed Amendments to Rule 4651 (September 20, 2007).

B. Do the Rules Meet the Evaluation Criteria?

We believe that NSAQMD Rule 227 and SJVUAPCD Rules 4621, 4622, and 4651 are consistent with the relevant policy and guidance regarding enforceability, RACT, and SIP relaxations. The TSDs have more information on our evaluation.

C. Public Comment and Final Action

Because EPA believes the submitted rules fulfill all relevant requirements, we are proposing to fully approve them as described in section 110(k)(3) of the Act. We will accept comments from the public on this proposal for the next 30 days. Unless we receive convincing new information during the comment period, we intend to publish a final approval action that will incorporate these rules into the Federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Incorporation by reference, Intergovernmental relations, Ozone, Reporting and recordkeeping requirements, Volatile organic compounds.

Dated: June 22, 2009.
Jane Diamond,
Acting Regional Administrator, Region IX.

[FR Doc. E9-16496 Filed 7-10-09; 8:45 am]

BILLING CODE 6560-50-P